DEPARTMENT OF COMMERCE

Bureau of Economic Analysis

Proposed Information Collection; Comment Request; International Travel Expenditures

ACTION: Notice.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before 5 p.m. January 14, 2008.

ADDRESSES: Direct all written comments to Diana Hynek, Departmental Paperwork Clearance Officer, Department of Commerce, Room 6625, 14th and Constitution Avenue, NW., Washington, DC 20230, or via e-mail at dHynek@doc.gov.

FOR FURTHER INFORMATION CONTACT: Michael Mann, Chief, Current Account Services Branch, Balance of Payments Division (BE-58), Bureau of Economic Analysis, U.S. Department of Commerce, Washington, DC 20230; phone: (202) 606-9573; fax: (202) 606-5314; or via e-mail at michael.mann@bea.gov.

SUPPLEMENTARY INFORMATION:

I. Abstract

The Bureau of Economic Analysis (BEA) is responsible for the compilation of the U.S. international transactions accounts (ITA's), which it publishes quarterly in news releases, on its Web site, and in its monthly journal, the Survey of Current Business. These accounts provide a statistical summary of all U.S. international transactions and, as such, are one of the major statistical products of BEA. They are used extensively by both government and private organizations for national and international economic policy formulation and for analytical purposes. Travel is a major component of trade in services in the ITAs, accounting for over 20 percent of both exports and imports of services in 2006. BEA seeks to improve the quality of these important estimates by using data on credit card transactions to form the core of the travel estimates. A survey of travelers is needed to estimate those transactions involving other means of payment. This survey is the subject of this notice. The survey will collect data from international travelers on their expenditures by method of payment (credit card, cash, prepaid expenditures, etc.) and will be designed to integrate with data that would be collected on credit card transactions.

II. Method of Collection

The information will be collected on a short survey of U.S. residents returning from travel abroad and foreign residents returning to their home countries after a trip to the United States. There will be two versions of the survey: one for U.S. travelers, and one for foreign travelers. The version for foreign travelers will be translated into several foreign languages. The survey will be voluntary, and a small monetary incentive will be offered to respondents. It will be conducted in a sample of U.S. international airports in four waves over the course of one year. This is a one-time survey, but may be repeated periodically in the future to refresh the factors used to estimate the travel account.

III. Data

OMB Control Number: None.

Form Number: None.

Type of Review: Regular submission.

Affected Public: Individuals or households.

Estimated Number of Respondents: 6,000.

Estimated Time per Response: 10 minutes.

Estimated Total Annual Burden Hours: 1,000.

Estimated Total Annual Cost: $40,000.

Respondent's Obligation: Voluntary.

Legal Authority: Bretton Woods Agreement Act, Section 8, and E.O. 10033, as amended.

IV. Request for Comments

Comments are invited on: (a) Whether the proposed collection of information is necessary for the proper performance of the functions of the agency, including whether the information will have practical utility; (b) the accuracy of the agency's estimate of burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 7, 2007.
Gwellnar Banks,
Management Analyst, Office of the Chief Information Officer.

[FR Doc. E7-22231 Filed 11-13-07; 8:45 am]

BILLING CODE 3510-EA-P